EXPORT-IMPORT BANK OF THE UNITED STATES

[Public Notice EIB-2023-0003]

Application for Final Commitment for a Long-Term Loan or Financial Guarantee in Excess of $100 Million: AP089473XX

AGENCY: Export-Import Bank of the United States.

ACTION: Notice.

SUMMARY: This Notice is to inform the public the Export-Import Bank of the United States (“EXIM”) has received an application for final commitment for a long-term loan or financial guarantee in excess of $100 million. Comments received within the comment period specified below will be presented to the EXIM Board of Directors prior to final action on this Transaction.

DATES: Comments must be received on or before May 22, 2023 to be assured of consideration before final consideration of the transaction by the Board of Directors of EXIM.

ADDRESSES: Comments may be submitted through Regulations.gov at www.regulations.gov. To submit a comment, enter EIB-2023-0003 under the heading “Enter Keyword or ID” and select Search. Follow the instructions provided at the Submit a Comment screen. Please include your name, company name (if any) and EIB-2023-0003 on any attached document.

SUPPLEMENTARY INFORMATION:

Reference: AP089473XX.

Purpose and use:

Brief description of the purpose of the transaction: Construction of two large photovoltaic (PV) solar power plants in Angola. The first power plant is expected to generate 400 MW of power in Malanje Province. The second plant will generate 104 MW of power in Luanda Province.

Brief non-proprietary description of the anticipated use of the items being exported: Provide solar-generated electricity to underserved rural areas of Angola.

Once completed, these two large solar PV generation projects will supply 6 to 10% of the country's total electric generation capacity. A transmission line will connect each plant to an existing Angola Ministry of Energy and Water (MINEA) substation.

Parties:

Principal Supplier: Omatapalo, Inc.

Obligor: Ministry of Finance of the Republic of Angola

Guarantor(s): None

Description of items being exported: Solar panels, connectors, switches, sensors and other equipment and design and engineering services for the construction of two photovoltaic (PV) solar power plants.

Information on decision: Information on the final decision for this transaction will be available in the “Summary Minutes of Meetings of Board of Directors” on http://exim.gov/newsandevents/boardmeetings/board/.

Confidential information: Please note that this notice does not include confidential or proprietary business information; information which, if disclosed, would violate the Trade Secrets Act; or information which would jeopardize jobs in the United States by supplying information that competitors could use to compete with companies in the United States.

Authority: Section 3(c)(10) of the Export-Import Bank Act of 1945, as amended (12 U.S.C. 635a(c)(10)).

Joyce B. Stone,
Assistant Corporate Secretary.

[FR Doc. 2023-08866 Filed 4-26-23; 8:45 am]

BILLING CODE 6690-01-P